DEPARTMENT OF HEALTH AND HUMAN SERVICES

Centers for Disease Control and Prevention

Reorganization of the Office of Health Equity

AGENCY: Centers for Disease Control and Prevention (CDC), the Department of Health and Human Services (HHS).

ACTION: Notice.

SUMMARY: CDC has modified its structure. This notice announces the reorganization of the Office of Health Equity (OHE). OHE abolished an office and modified mission and function statements.

DATES: This reorganization of OHE was approved by the Director of CDC on September 13, 2024, and became effective September 13, 2024.

FOR FURTHER INFORMATION CONTACT: Kem Williams, Centers for Disease Control and Prevention, 1600 Clifton Road NE, MS TW-3, Atlanta, GA 30329; Telephone 404-639-7199; Email: ohepolicy@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 89 FR 68442-68443, dated August 26, 2024) is amended to reflect the reorganization of Office of Health Equity, Immediate Office of the Director, Centers for Disease Control and Prevention. Specifically, the changes are as follows:

I. Under Part C, Section C-B, Organization and Functions, make the following changes:

• Update the mission for the Office of Health Equity (CAG)

• Update the mission for the Office of the Director (CAG1)

• Abolish the Office of Equitable Population Health (CAGB)

• Update the mission for the Office of Minority Health (CAGC)

• Update the mission for the Office of Health Equity (CAGD)

II. Under Part C, Section C-B, Organization and Functions, within the Office of Health Equity (CAG), delete the mission or function statements for and replace with the following:

Office of Health Equity (CAG). The Office of Health Equity (OHE) is located in the CDC Immediate Office of the Director and serves as principal advisor to the CDC Director on all health equity matters domestic and global. In carrying out its mission, OHE: (1) leads an agency-wide health equity strategy that includes crosscutting multi-year initiatives that advance comprehensive, well-defined, and measurable health outcomes; (2) coordinates health equity science including advancing the surveillance of health equity indicators and the science of achieving health equity by consistently applying data collection and analysis standards in collaboration with the Office of Public Health Data, Surveillance, and Technology, as well as the Office of Science; (3) coordinates programs, practices, policies, and budget decisions across the agency with a health equity lens that includes a comprehensive view of disparities (including race, ethnicity, gender, sexual orientation, rurality, disability) and health inequities (e.g., social determinants of health); (4) works in collaboration with CDC's Office of Communications to develop and lead agency-wide communication efforts aimed at increasing awareness, transparency, language access, and cultural responsiveness; disseminate scientific and programmatic findings to the public; and foster synergy amongst CDC health equity initiatives; (5) shares best practices, coordinates, collaborates, and collectively advances health equity standards and principles in science, programs, and in communications with the public and our partners; (6) leads and supports a health equity approach for emergency responses across the agency that includes working with partners to reach communities that are underserved and subject to largely preventable health disparities and health-related needs; and (7) applies an intersectionality lens to addressing health disparities by working across units within OHE and CIOs to increase program efficacy closing gaps that perpetuate disparities and inequities.

Office of the Director (CAG1). The Office of the Director provides leadership, oversight, fiscal management, and coordination to all units within the Office of Health Equity, including leading and coordinating the planning and implementation of an agency-wide strategy to address largely preventable health disparities and health inequities among persons with disabilities, people who identify as LGBTQ+, and people who live in rural and frontier communities. The Office of the Director ensures collaboration through a matrix management approach across all units within OHE to achieve an intersectional approach to reducing health disparities in populations that have experienced persistent patterns of poor health outcomes. Further, the Office of the Director: (1) drives Executive accountability and responsive decision-making relevant to health equity at all levels; (2) ensures agency-wide health equity approaches through the development of key deliverables and indicators (e.g., standardized documents, processes, policies, and practices that advance health equity); (3) incorporates health equity into existing and future agency policies and programs building on current efforts that have been effective in achieving equity; (4) leads the advancement of intersectional health equity practices and principles across the agency; (5) leads efforts to build agency-wide competency in health equity and social determinants of health (SDOH) that effectively support cross-cutting equity considerations for both ongoing activities and during emergency response-related efforts; (6) leads and contributes technical expertise to the development of training materials which will support a cadre of professionals who will assist in emergency response work and who have expertise related to disproportionately affected communities (e.g., racial and ethnic minority populations, people with disabilities, and non-U.S. born persons), prioritizing individuals who can assist in a culturally responsive and linguistically appropriate manner and who would easily be able to engage with appropriate community leaders in the response; (7) serves as the primary point of contact for efforts across the CDC's ecosystem to develop and share best practices, coordinate, collaborate, and collectively advance health equity standards and principles in science, programs, and in communications with the public; and (8) proactively fosters community engagement with existing partners, STLT health departments, engagement with people with lived experience from disproportionately affected communities and strengthen relationships with national and community-based organizations (CBOs).

Office of Minority Health (CAGC). Office of Minority Health (OMH) (1) promotes public health research, evidence-based programs, policies, and strategies to improve the health and well-being of racial and ethnic minority populations; (2) focuses on the collective goal of the success, sustainability and dissemination of health equity promoting policies, programs, and practices; (3) provides subject matter expertise to the Office of Health Equity in areas that are related to racial and ethnic minority health; (4) works in a coordinated manner with the Office of Women's Health (OWH) to ensure an intersectionality lens is applied to the work to improve the health and well-being of people who identify with a racial and/or ethnic population as well as other identity groups such as people with disabilities; (5) applies an intersectionality lens, contributes subject matter expertise to the development of guidance documents and standards related to improving minority health; (6) applies an intersectionality lens, partners with CIOs to implement and refine how health equity approaches related to minority health are operationalized and institutionalized; (7) contributes technical expertise to the development of quantitative and qualitative indicators and metrics needed to assess minority health and associated health inequities; (8) partners with CIOs to use standardized tools and metrics relevant to minority health to monitor progress, measure effectiveness, and make changes to improve health outcomes; (9) contributes technical expertise to the development of minority health and equity-related technical communication products (e.g., white papers, technical briefs, success stories); (10) provides thought leadership and technical consultation in the science and practice of minority health, health equity, and the elimination of health disparities; (11) applies an intersectionality lens, contributes technical expertise in minority health to agency-wide communication efforts aimed to increase awareness of CDC's equity approaches and infuse those approaches into CDC's public health work; (12) supports the Chief Health Equity Officer (CHEO) unit during emergency responses; and (13) assists the Immediate Office of the Director, as needed, to identify and develop partnerships with STLTS health departments, minority health-focused national and CBOs.

Office of Women's Health (CAGD). (1) promotes public health research, evidence-based programs, policies, and strategies to improve the health and well-being of women and girls; (2) serves as a central point for women's health and raises visibility of risk factors and other conditions that impact women's and girls' health; (3) provides subject matter expertise to support gender and women's health and collaborates with OMH to develop a whole of public health approach while contributing to and supporting the work of OHE/OD; (4) applies an intersectionality lens, contributes subject matter expertise to the development of guidance documents and standards related to women's health; (5) applies an intersectionality lens when partnering with CIOs to implement and refine how health equity approaches related to women's health are operationalized and institutionalized; (6) contributes technical expertise to the development of quantitative and qualitative indicators and metrics needed to assess women's health; (7) partners with CIOs to use standardized tools and metrics relevant to women's health to monitor progress, measure effectiveness, and make changes to improve health equity outcomes; (8) contributes technical expertise to the development of women's health and equity-related technical communication products (e.g., white papers, technical briefs, success stories); (9) contributes technical expertise in women's health to agency-wide activities that include (a) developing and disseminating key guidance documents, where needed, that address social and structural determinants of health; (b) advancing the surveillance of health equity indicators and the science of achieving gender health equity; and (c) consistently applying data collection and analysis standards in collaboration with the Office of Public Health Data, Surveillance, and Technology and the Office of Science; (10) applies an intersectionality lens, contributes technical expertise in women's health to agency-wide communication efforts aimed to increase awareness of CDC's gender equity approaches and infuse those approaches into CDC's public health work; (11) applies an intersectionality lens to technical expertise in the design of training programs and technical assistance efforts implemented with CIOs, programs, partner organizations, and communities; and (12) assists the OHE Office of the Director, as needed, on partnership development and community engagement efforts, including for emergency response events.

III. Under part C, Section C-B, Organization and Functions, delete the respective mission or functional statements for and replace with the following:

Meningitis, Pertussis, and Diphtheria Epidemiology Branch (CJEC). (1) provides epidemiologic subject matter expertise and technical assistance for surveillance, prevention, and control of bacterial illness, including meningococcal disease, Haemophilus influenzae disease, diphtheria, pertussis, tetanus, and bacterial meningitis syndrome; (2) develops, implements, and evaluates prevention strategies for these bacterial diseases, including vaccine and non-vaccine strategies; (3) supports development of vaccine policy through the ACIP process; (4) conducts surveillance and epidemiological research for meningococcal disease, H. influenzae disease, diphtheria, pertussis, tetanus, and bacterial meningitis syndrome; (5) provides consultation and support to domestic and international partners on the use of vaccines and other prevention measures for bacterial respiratory diseases; and (6) collaborates with other CDC groups, other federal agencies, state, tribal, local, and territorial groups, ministries of health, World Health Organization, private industry, academia, and other governmental and non-governmental organizations involved in public health.

Delegations of Authority

All delegations and redelegations of authority made to officials and employees of affected organizational components will continue in them or their successors pending further redelegation, provided they are consistent with this reorganization.

(Authority: 44 U.S.C. 3101)

Robin D. Bailey,
Chief Operating Officer, Centers for Disease Control and Prevention.

[FR Doc. 2024-21411 Filed 9-18-24; 8:45 am]

BILLING CODE 4163-18-P